ENVIRONMENTAL PROTECTION AGENCY

40 CFR Part 52

[Docket #: EPA-R10-OAR-2013-0713; FRL-9904-63-Region 10]

Approval and Promulgation of Implementation Plans; Washington: Kent, Seattle, and Tacoma Second 10-Year PM10 Limited Maintenance Plan

AGENCY: Environmental Protection Agency (EPA).

ACTION: Proposed rule.

SUMMARY: The Environmental Protection Agency (EPA) is proposing to approve a limited maintenance plan submitted by the State of Washington, dated November 25, 2013, for the Kent, Seattle, and Tacoma maintenance areas for particulate matter with an aerodynamic diameter less than or equal to a nominal 10 micrometers (PM10). A limited maintenance plan is used to meet Clean Air Act requirements for formerly designated nonattainment areas with little risk of violating the PM10 National Ambient Air Quality Standard (PM10 NAAQS) again. All three areas currently have monitored PM10 levels that are roughly one-third of the PM10 NAAQS, with steady declines in PM10 levels since the areas were first identified as potentially violating the PM10 NAAQS in 1987.

DATES: Comments must be received on or before January 27, 2014.

ADDRESSES: Submit your comments, identified by Docket ID No. EPA-R10-OAR-2013-0713, by any of the following methods:

A. www.regulations.gov: Follow the on-line instructions for submitting comments.

B. Mail: Jeff Hunt, EPA Region 10, Office of Air, Waste and Toxics (AWT-107), 1200 Sixth Avenue, Suite 900, Seattle WA, 98101.

C. Email: R10-Public_Comments@epa.gov.

D. Hand Delivery: EPA Region 10 Mailroom, 9th Floor, 1200 Sixth Avenue, Suite 900, Seattle WA, 98101. Attention: Jeff Hunt, Office of Air, Waste and Toxics, AWT—107. Such deliveries are only accepted during normal hours of operation, and special arrangements should be made for deliveries of boxed information.

Instructions: Direct your comments to Docket ID No. EPA-R10-OAR-2013-0713. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the electronic docket are listed in the www.regulations.gov index. Although listed in the index, some information is not publicly available, i.e., CBI or other information the disclosure of which is restricted by statute. Certain other material, such as copyrighted material, is not placed on the Internet and will be publicly available only in hard copy form. Publicly available docket materials are available either electronically in www.regulations.gov or in hard copy during normal business hours at the Office of Air, Waste and Toxics, EPA Region 10, 1200 Sixth Avenue, Seattle WA, 98101.

FOR FURTHER INFORMATION CONTACT: Jeff Hunt at (206) 553-0256, hunt.jeff@epa.gov, or by using the above EPA, Region 10 address.

SUPPLEMENTARY INFORMATION: Throughout this document wherever “we”, “us” or “our” are used, it is intended to refer to the EPA.

Table of Contents

I. This Action

II. Background

III. Public and Stakeholder Involvement in Rulemaking Process

IV. The Limited Maintenance Plan Option for PM10 Areas

A. Requirements for the Limited Maintenance Plan Option

B. Conformity under the Limited Maintenance Plan Option

V. Review of the State's Submittal

A. Has the State demonstrated that the maintenance areas qualify for the limited maintenance plan option?

B. Does the State have an approved attainment Emissions Inventory?

C. Does the Limited Maintenance Plan Include an assurance of continued operation of an appropriate EPA-approved air quality monitoring network, in accordance with 40 CFR Part 58?

D. Does the plan meet the Clean Air Act requirements for contingency provisions?

E. Has the State met conformity requirements?

VI. Proposed Action

VII. Statutory and Executive Order Reviews

I. This Action

The EPA is proposing to approve the limited maintenance plan submitted by the State of Washington (Washington or the State), dated November 25, 2013, for the Kent, Seattle, and Tacoma PM10 maintenance areas, including approval of a monitoring system modification for the area. If finalized, the EPA's approval of this limited maintenance plan will satisfy the section 175A Clean Air Act requirements for all three areas, including the portion of the Puyallup Indian Reservation that falls within the Tacoma PM10 maintenance area.

II. Background

On August 7, 1987, the EPA identified portions of Kent, Seattle, and Tacoma as “Group I” areas of concern for having a greater than 95% probability of violating the 24-hour PM10 NAAQS (52 FR 29383). On November 15, 1990, the Group I areas of Kent, Seattle, and Tacoma were designated as nonattainment for PM10 by operation of law upon enactment of the Clean Air Act Amendments. The Washington Department of Ecology (Ecology) and the Puget Sound Clean Air Agency (PSCAA) worked with the communities to establish PM10 pollution control strategies. Primary control strategies for the three areas included a residential wood smoke control program, a fugitive dust program, a prohibition on open burning, and industrial emission controls. These control measures were highly successful with monitoring data showing Kent, Seattle, and Tacoma meeting the PM10 NAAQS since 1987, 1990, and 1989, respectively, with continuing declines in PM10 levels ever since.

The EPA fully approved the PM10 attainment plans for Kent, Seattle, and Tacoma on July 27, 1993, October 26, 1995, and October 25, 1995, respectively (58 FR 40059, 60 FR 54812, and 60 FR 54599). The EPA then approved a 10-year maintenance plan redesignating all three areas from nonattainment to attainment, making them maintenance areas effective May 14, 2001 (66 FR 14492, published March 13, 2001). The purpose of the current limited maintenance plan is to fulfill the second 10-year planning requirement, section 175A(b) of the Clean Air Act, to ensure compliance through 2020.

III. Public and Stakeholder Involvement in Rulemaking Process

Section 110(a)(2) of the Clean Air Act requires that each State Implementation Plan (SIP) revision offer a reasonable opportunity for notice and public hearing. The State provided notice and an opportunity for public comment beginning September 27, 2013, and ending November 4, 2013. Under the requirements of 40 CFR 51.102(a), the State held a public hearing at 6:30 p.m. on October 30, 2013 in the Mill Creek Room of the Kent Commons, 525 Fourth Avenue N, Kent, Washington. Two sets of comments were received. The first comment discussed the burning of coal in Asia generally, and requested stronger action to address international pollution. The second comment requested that Ecology expand the Kent maintenance area boundary and consider more stringent control measure in the future. The EPA reviewed both sets of comments and determined that Ecology's responses were appropriate and adequate. This SIP revision was submitted by the Governor's designee and was received by the EPA on November 29, 2013. The EPA evaluated Ecology's submittal and determined that the State met the requirements for reasonable notice and public hearing under section 110(a)(2).

IV. The Limited Maintenance Plan Option for PM10 Areas

A. Requirements for the Limited Maintenance Plan Option

On August 9, 2001, the EPA issued guidance on streamlined maintenance plan provisions for certain moderate PM10 nonattainment areas. See memo from Lydia Wegman, Director, Air Quality Standards and Strategies Division, entitled “Limited Maintenance Plan Option for Moderate PM10 Nonattainment Areas” (limited maintenance plan option memo). The limited maintenance plan option memo contains a statistical demonstration that areas meeting certain air quality criteria will, with a high degree of probability, maintain the standard ten years into the future. Thus, the EPA provided the maintenance demonstration for areas meeting the criteria outlined in the memo. It follows that future year emission inventories for these areas, and some of the standard analyses to determine transportation conformity with the SIP, are no longer necessary.

To qualify for the limited maintenance plan option the State must demonstrate the area meets the criteria described below. First, the area should have attained the PM10 NAAQS. Second, the most recent five years of air quality data at all monitors in the area, called the 24-hour average design value, should be at or below 98 µg/m³. Third, the State should expect only limited growth in on-road motor vehicle PM10 emissions (including fugitive dust) and should have passed a motor vehicle regional emissions analysis test. Lastly, the memo identifies core provisions that must be included in all limited maintenance plans. These provisions include an attainment year emissions inventory, assurance of continued operation of an EPA-approved air quality monitoring network, and contingency provisions.

B. Conformity Under the Limited Maintenance Plan Option

The transportation conformity rule and the general conformity rule (40 CFR parts 51 and 93) apply to nonattainment areas and maintenance areas covered by an approved maintenance plan. Under either conformity rule, an acceptable method of demonstrating a Federal action conforms to the applicable SIP is to demonstrate that expected emissions from the planned action are consistent with the emissions budget for the area.

While qualification for the limited maintenance plan option does not exempt an area from the need to affirm conformity, conformity may be demonstrated without submitting an emissions budget. Under the limited maintenance plan option, emissions budgets are treated as essentially not constraining for the length of the maintenance period because it is unreasonable to expect that the qualifying areas would experience so much growth in that period that a violation of the PM10 NAAQS would result. For transportation conformity purposes, the EPA would conclude that emissions in these areas need not be capped for the maintenance period and therefore a regional emissions analysis would not be required. Similarly, Federal actions subject to the general conformity rule could be considered to satisfy the “budget test” specified in 40 CFR 93.158(a)(5)(i)(A) for the same reasons that the budgets are essentially considered to be unlimited.

V. Review of the State's Submittal

A. Has the State demonstrated that the maintenance areas qualify for the limited maintenance plan option?

As discussed above, the limited maintenance plan option memo outlines the requirements for an area to qualify. First, the area should be attaining the PM10 NAAQS. Monitoring data shows that all three areas attained the PM10 NAAQS by 1990, with declining levels of PM10 ever since. The EPA formally redesignated the areas from nonattainment to attainment, making them maintenance areas effective May 14, 2001 (66 FR 14492, published March 13, 2001).

Second, the average design value for the past five years of monitoring data must be at or below the critical design value of 98 µg/m³ for the 24-hour PM10 NAAQS. The critical design value is a margin of safety in which an area has a one in ten probability of exceeding the NAAQS. The design values for Kent, Seattle, and Tacoma based on 24-hour PM10 monitoring data from 2003 through 2007 are 57 ± 3 μg/m³, 68 ± 4 μg/m³, and 72 ± 9 μg/m³. As discussed later in this proposal, in these three areas PM10 levels can be estimated with a high degree of accuracy using fine particulate matter (PM2.5) concentrations. In 2007, the EPA approved the State's request to shift from PM10 specific monitoring in Kent, Seattle, and Tacoma to rely on the more stringent and environmentally relevant PM2.5 NAAQS monitoring effort. PM10 design values estimated using PM2.5 concentration levels from 2008 to 2012 are 46 ± 3 μg/m³, 50 ± 5 μg/m³, and 58 ± 8 μg/m³, respectively. The EPA reviewed the data and methodology provided by the State and finds that all three areas meet the design value criteria of 98 µg/m³ outlined in the limited maintenance plan option memo.

Third, the area must meet the motor vehicle regional emissions analysis test described in Attachment B of the limited maintenance plan option memo. The State submitted an analysis showing that growth in on-road mobile PM10 emissions sources was minimal and would not threaten the assumption of maintenance that underlies the limited maintenance plan policy. Using the EPA's methodology, the State calculated total growth in on-road motor vehicle PM10 emissions over the ten-year period for Kent, Seattle, and Tacoma of 1.5 µg/m³, 2.7 µg/m³, and 2.9 µg/m³, respectively. This calculation is derived using Attachment B of the EPA's limited maintenance plan memo, where the projected percentage increase in vehicle miles traveled over the next ten years (VMTpi) is multipled by the on-road mobile portion of the attainment year inventory (DVmv), including both primary and secondary PM10 emissions and re-entrained road dust. The EPA reviewed the calculations in the State's limited maintenance plan submittal and concurs with the determination that all three areas meet the motor vehicle regional emissions analysis test. This test is met when (VMTpi × DVmv) plus the design value for the most recent five years of quality assured data is below the limited maintenance plan threshold of 98 µg/m³. The results for Kent, Seattle, and Tacoma were 61.5 µg/m³, 74.7 µg/m³, and 83.9 µg/m³, respectively. Please see Appendix A of the State's submission for the full analysis.

Lastly, the limited maintenance plan option memo requires all controls relied on to demonstrate attainment remain in place for the areas to qualify. The EPA confirmed that the underlying control measures for Kent, Seattle, and Tacoma remain in place, thus qualifying for the limited maintenance plan option.

As described above, the Kent, Seattle, and Tacoma maintenance areas meet the qualification criteria set forth in the limited maintenance plan option memo. Under the limited maintenance plan option, the State will be expected to determine on an annual basis that the criteria are still being met. If the State determines that the limited maintenance plan criteria are not being met, it should take action to reduce PM10 concentrations enough to requalify. One possible approach the State could take is to implement contingency measures. Section V. I. provides a description of contingency provisions submitted as part of the limited maintenance plan submittal. To ensure this requirement is met, the State commits to reporting to the EPA on continued qualification for the limited maintenance plan option in the annual monitoring network report.

B. Does the State have an approved attainment emissions inventory?

Pursuant to the limited maintenance plan option memo, the State's submission should include an emissions inventory which can be used to demonstrate attainment of the NAAQS. The inventory should represent emissions during the same five-year period associated with air quality data used to determine whether the area meets the applicability requirements of the limited maintenance plan option.

The limited maintenance plan submittal includes an emissions inventory based on the State's draft 2011 Triennial Emissions Inventory. This inventory is prepared as part of the 2011 National Emissions Inventory under the EPA's Air Emissions Reporting Rule (73 FR 76539, December 17, 2008). The information was supplemented with annual 2011 industrial emissions reported to PSCAA and Ecology. The 2011 base years represent the most recent emissions inventory data available and is consistent with the data used to determine applicability of the limited maintenance plan option (i.e., having no violations of the PM10 NAAQS). The emissions inventory focused on seven significant source categories chosen based on a review of the original maintenance plan. The 2011 emission categories are shown along with source categories from the original maintenance plan in parentheses. These categories are: On-road mobile (gasoline exhaust); port and marine, on-road mobile (diesel exhaust); port and marine (ships); locomotives, including fugitive dust (locomotives); residential wood combustion (wood burning); paved road dust, unpaved road dust (road dust); and industrial (allowable industrial). Other source categories, including outdoor burning, construction dust, aircraft emissions, wildfires, cigarette smoke, commercial charbroiling, and secondary particulate matter, are insignificant. The EPA reviewed and is proposing to approve the emissions inventory and methodology. The emissions inventory data supports the State's conclusion that the existing control measures in place will continue to protect and maintain the PM10 NAAQS.

C. Does the limited maintenance plan include an assurance of continued operation of an appropriate EPA-approved air quality monitoring network, in accordance with 40 CFR Part 58?

PM10 monitoring was established in the Kent, Seattle, and Tacoma areas between 1985 and 1987, with many changes to the monitoring technology and requirements since. Beginning in 1999, the State collocated PM2.5 monitors with the existing PM10 Federal Equivalent Method (FEM) monitors to establish correlation data and confirm that PM10 levels could be accurately predicted using PM2.5 concentrations for the areas. Due to the high level of correlation between the PM2.5 and PM10 monitors, the State requested discontinuing the PM10 specific monitors as part of the 2007 annual network monitoring report under 40 CFR part 58. The EPA approved this request in a letter dated November 16, 2007, included in the docket for this action.

A full description of the correlation data and the estimation model is included in the limited maintenance plan submittal. The EPA is proposing to approve this monitoring system modification, using PM2.5 monitoring data to estimate PM10 concentrations, under 40 CFR 58.14(c) for the second 10-year maintenance plan period. This estimation method is a reproducible approach to representing air quality in all three maintenance areas, and all three areas continue to meet the applicable Appendix D requirements evaluated as part of the annual network approval process. As detailed in the limited maintenance plan, the State will calculate the PM10 design value estimate annually from PM2.5 monitoring data through 2020 to confirm the area continues to meet the PM10 NAAQS. The State also makes a commitment to continue operation of PM2.5 monitoring in the three maintenance areas through the 2020, the end of the maintenance period, to determine PM10 levels. In the unlikely event that after exceptional events are taken into account, the calculated design value for PM10 exceeds the limited maintenance plan threshold of 98 μg/m³, the State will re-establish PM10 monitoring.

D. Does the plan meet the clean air act requirements for contingency provisions?

Clean Air Act section 175A states that a maintenance plan must include contingency provisions, as necessary, to ensure prompt correction of any violation of the NAAQS which may occur after redesignation of the area to attainment. Puget Sound Clean Air Agency's Regulation I—Article 13.07(b) provides for prohibition of the use of uncertified woodstoves for the sole purpose of meeting Clean Air Act requirements for contingency measures. The EPA approved Article 13.07(b) as a contingency measure for all three areas on March 13, 2001 (66 FR 14492). Regulation I—Article 13.07(b) remains in effect today and the entire Article 13 was re-approved by the EPA on May 29, 2013 (78 FR 32131).

E. Has the State met conformity requirements?

(1) Transportation Conformity

Under the limited maintenance plan option, emissions budgets are treated as essentially not constraining for the maintenance period because it is unreasonable to expect that qualifying areas would experience so much growth in that period that a NAAQS violation would result. While areas with maintenance plans approved under the limited maintenance plan option are not subject to the budget test, the areas remain subject to the other transportation conformity requirements of 40 CFR part 93, subpart A. Thus, the metropolitan planning organization (MPO) in the area or the State must document and ensure that:

(a) Transportation plans and projects provide for timely implementation of SIP transportation control measures (TCMs) in accordance with 40 CFR 93.113;

(b) transportation plans and projects comply with the fiscal constraint element as set forth in 40 CFR 93.108;

(c) the MPO's interagency consultation procedures meet the applicable requirements of 40 CFR 93.105;

(d) conformity of transportation plans is determined no less frequently than every four years, and conformity of plan amendments and transportation projects is demonstrated in accordance with the timing requirements specified in 40 CFR 93.104;

(e) the latest planning assumptions and emissions model are used as set forth in 40 CFR 93.110 and 40 CFR 93.111;

(f) projects do not cause or contribute to any new localized carbon monoxide or particulate matter violations, in accordance with procedures specified in 40 CFR 93.123; and

(g) project sponsors and/or operators provide written commitments as specified in 40 CFR 93.125.

Upon approval of the limited maintenance plan for the Kent, Seattle, and Tacoma areas, the three PM10 maintenance areas are exempt from performing a regional emissions analysis, but must meet project-level conformity analyses as well as the transportation conformity criteria mentioned above.

(2) General Conformity

For Federal actions required to address the specific requirements of the general conformity rule, one set of requirements applies particularly to ensuring that emissions from the action will not cause or contribute to new violations of the NAAQS, exacerbate current violations, or delay timely attainment. One way that this requirement can be met is to demonstrate that “the total of direct and indirect emissions from the action (or portion thereof) is determined and documented by the state agency primarily responsible for the applicable SIP to result in a level of emissions which, together with all other emissions in the nonattainment area, would not exceed the emissions budgets specified in the applicable SIP” (40 CFR 93.158(a)(5)(i)(A)).

The decision about whether to include specific allocations of allowable emissions increases to sources is one made by the state air quality agencies. These emissions budgets are different than those used in transportation conformity. Emissions budgets in transportation conformity are required to limit and restrain emissions. Emissions budgets in general conformity allow increases in emissions up to specified levels. The State has not chosen to include specific emissions allocations for Federal projects that would be subject to the provisions of general conformity.

VI. Proposed Action

The EPA is proposing to approve the limited maintenance plan submitted by the State of Washington, dated November 25, 2013, for the Kent, Seattle, and Tacoma PM10 maintenance areas, including approval of a monitoring system modification for the area. If finalized, the EPA's approval of this limited maintenance plan will satisfy the section 175A Clean Air Act requirements for all three areas, including the portion of the Puyallup Indian Reservation that falls within the Tacoma PM10 maintenance area.

VII. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L.104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to the requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law. The SIP is not approved to apply in Indian country located in the State, except for non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area and the EPA is therefore approving this SIP on such lands. Consistent with EPA policy, the EPA nonetheless provided a consultation opportunity to the Puyallup Tribe in a letter dated October 18, 2013. The EPA did not receive a request for consultation.

List of Subjects in 40 CFR Part 52

Environmental protection, Air pollution control, Particulate matter, and Reporting and recordkeeping requirements.

Authority: 42 U.S.C. 7401 et seq.

Dated: December 12, 2013.
Dennis J. McLerran,
Regional Administrator, Region 10.

[FR Doc. 2013-30878 Filed 12-24-13; 8:45 am]

BILLING CODE 6560-50-P